DEPARTMENT OF HOMELAND SECURITY

Coast Guard

33 CFR Part 165

[CGD05-02-099]

RIN 1625-AA11 (Formerly RIN 2115-AE84)

Regulated Navigation Area in Hampton Roads, VA

AGENCY: Coast Guard, DHS.

ACTION: Notice of proposed rulemaking; withdrawal.

SUMMARY: The Coast Guard is withdrawing a duplicate notice of proposed rulemaking concerning revisions to the regulated navigation area in Hampton Roads, Virginia. This duplicate notice of proposed rulemaking was inadvertently published after the initial publication of a substantially similar notice of proposed rulemaking. The initial notice of proposed rulemaking will remain unchanged.

DATES: The May 22, 2003, notice of proposed rulemaking “Regulated Navigation Area in Hampton Roads, VA” (68 FR 27948) is withdrawn on June 9, 2003.

FOR FURTHER INFORMATION CONTACT: Lieutenant Lewis Fisher, Jr., Marine Safety Division, Fifth Coast Guard District, (757) 398-6387, between 9 a.m. and 3 p.m., Monday through Friday, except Federal holidays.

SUPPLEMENTARY INFORMATION:

Background

On April 29, 2003, we published a notice of proposed rulemaking entitled “Regulated Navigation Area in Hampton Roads, VA” in the Federal Register (68 FR 22648). The rulemaking concerned proposed revisions to the regulated navigation area in Hampton Roads, Virginia, designed to impose vessel reporting requirements and speed limit restrictions in certain areas of the port. On May 22, 2003, we published a substantially similar notice of proposed rulemaking entitled “Regulated Navigation Area in Hampton Roads, VA” in the Federal Register (68 FR 27948). The Coast Guard is withdrawing only the May 22, 2003, notice of rulemaking.

Withdrawal

Though the April 29, 2003, notice of proposed rulemaking (68 FR 22648) and the May 22, 2003, notice of proposed rulemaking (68 FR 27948) are not identical, the provisions are substantially similar. In order to alleviate public confusion and facilitate the development of a final rule, the Coast Guard is withdrawing the May 22, 2003, notice of proposed rulemaking “Regulated Navigation Area in Hampton Roads, VA” (68 FR 27948). The April 29, 2003, notice of proposed rulemaking “Regulated Navigation Area in Hampton Roads, VA” (68 FR 22648) will remain unchanged by this action and is anticipated to be the basis of a final rule.

Dated: June 3, 2003.
Sally Brice-O'Hara,
Rear Admiral, U.S. Coast Guard, Commander, Fifth Coast Guard District.

[FR Doc. 03-14433 Filed 6-6-03; 8:45 am]

BILLING CODE 4910-15-P